DEPARTMENT OF HOMELAND SECURITY

U.S. Customs and Border Protection

Notice of Cancellation of Customs Broker Licenses

AGENCY: U.S. Customs and Border Protection, U.S. Department of Homeland Security.

ACTION: General Notice.

SUMMARY: Pursuant to section 641 of the Tariff Act of 1930, as amended, (19 U.S.C. 1641) and the U.S. Customs and Border Protection regulations (19 CFR 111.45), the following Customs broker licenses and all associated permits are revoked with prejudice.

Name | License # | Issuing port
Gregory Manuelian | 09305 | New York
Marquis Clearance Services, Ltd. | 06207 | New York

Dated: February 28, 2011.
Daniel Baldwin,
Assistant Commissioner, Office of International Trade.

[FR Doc. 2011-5451 Filed 3-9-11; 8:45 am]

BILLING CODE 9111-14-P